DEPARTMENT OF ENERGY

Federal Energy Regulatory Commission

[Docket No. RP96-312-032]

Tennessee Gas Pipeline Company; Notice of Negotiated Rate Filing

September 25, 2000.

Take notice that on September 15, 2000, Tennessee Gas Pipeline Company (Tennessee), tendered for filing a FT-A Service Agreement. Tennessee requests that the Commission approve the FT-A Service Agreement to be effective November 1, 2000.

Tennessee states that the filed FT-A Service Agreement reflects a negotiated rate transaction between Tennessee and United Cities Gas Company for transportation under Rate Schedule FT-A beginning November 1, 2000.

Any person desiring to be heard or to protest said filing should file a motion to intervene or a protest with the Federal Energy Regulatory Commission, 888 First Street, NE., Washington, DC 20426, in accordance with sections 385.214 or 385.211 of the Commission's Rules and Regulations. All such motions or protests must be filed on or before October 2, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-24987 Filed 9-28-00; 8:45 am]

BILLING CODE 6717-01-M